DEPARTMENT OF HOMELAND SECURITY

Federal Emergency Management Agency

44 CFR Part 65

[Docket ID FEMA-2010-0003; Internal Agency Docket No. FEMA-B-1118]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa | City of Surprise (09-09-2388P) | March 11, 2010; March 18, 2010; Arizona Business Gazette | The Honorable Lyn Truitt, Mayor, City of Surprise, 16000 North Civic Center Plaza, Surprise, AZ 85374 | February 25, 2010 | 040053
Maricopa | Unincorporated areas of Maricopa County (09-09-2388P) | March 11, 2010; March 18, 2010; Arizona Business Gazette | The Honorable Andrew W. Kunasek, Chairman, Maricopa County Board of Supervisors, 301 West Jefferson Street, 10th Floor, Phoenix, AZ 85003 | February 25, 2010 | 040037
Florida:
Alachua | Unincorporated areas of Alachua County (09-04-5275P) | March 16, 2010; March 22, 2010; The Gainesville Sun | The Honorable Cynthia Moore Chestnut, Chairman, Alachua County Board of Commissioners, P.O. Box 2877, Gainesville, FL 32602 | February 26, 2010 | 120001
Duvall | City of Jacksonville (10-04-1198P) | March 5, 2010; March 12, 2010; Jacksonville Daily Record | The Honorable John Peyton, Mayor, City of Jacksonville, 117 West Duval Street, Jacksonville, FL 32202 | July 9, 2010 | 120077
Monroe | Unincorporated areas of Monroe County (09-04-8247P) | March 8, 2010; March 15, 2010; Key West Citizen | The Honorable Sylvia Murphy, Mayor, Monroe County, 102050 Overseas Highway, Suite 234, Key Largo, FL 33037 | February 26, 2010 | 125129
Seminole | City of Lake Mary (10-04-0356P) | March 5, 2010; March 12, 2010; Orlando Sentinel | The Honorable David Mealor, Mayor, City of Lake Mary, P.O. Box 958445, Lake Mary, FL 32795 | February 24, 2010 | 120416
Idaho: Teton | Unincorporated areas of Teton County (09-10-0567P) | February 18, 2010; February 25, 2010; Teton Valley News | The Honorable Larry Young, Chairman, Teton County Board of Commissioners, 150 Courthouse Drive, Driggs, ID 83422 | June 25, 2010 | 160230
Kansas: Johnson | City of Overland Park (09-07-1561P) | March 10, 2010; March 17, 2010; The Johnson County Sun | The Honorable Carl Gerlach, Mayor, City of Overland Park, 8500 Santa Fe Drive, Overland Park, KS 66212 | February 26, 2010 | 200174
Kentucky: Lexington-Fayette Urban County Government | Lexington-Fayette Urban County Government (09-04-6917P) | March 15, 2010; March 22, 2010; Lexington Herald-Leader | The Honorable Jim Newberry, Mayor, Lexington-Fayette Urban County, Government, 200 East Main Street, 12th Floor, Lexington, KY 40507 | March 29, 2010 | 210067
North Carolina: Durham | City of Durham (08-04-3771P) | February 24, 2010; March 3, 2010; The Herald Sun | The Honorable William V. Bell, Mayor, City of Durham, 101 City Hall Plaza, Durham, NC 27701 | July 1, 2010 | 370086
Texas:
Comal and Guadalupe | City of Schertz (09-06-2056P) | March 11, 2010; March 18, 2010; Northeast Herald | The Honorable Hal Baldwin, Mayor, City of Schertz, 1400 Schertz Parkway, Schertz, TX 78154 | July 16, 2010 | 480269
Comal and Guadalupe | City of Selma (09-06-2056P) | March 11, 2010; March 18, 2010; Northeast Herald | The Honorable Jim Parma, Mayor, City of Selma, 9375 Corporate Drive, Selma, TX 78154 | July 16, 2010 | 480046
Gregg | City of Longview (09-06-1728P) | March 5, 2010; March 12, 2010; Longview News-Journal | The Honorable Jay Dean, Mayor, City of Longview, P.O. Box 1952, Longview, TX 75606 | July 12, 2010 | 480264
Tarrant | City of Hurst (09-06-2085P) | December 18, 2008; December 25, 2009; Star-Telegram | The Honorable Richard Ward, Mayor, City of Hurst, 1505 Precinct Line Road, Hurst, TX 76054 | April 26, 2010 | 480601
Virginia: Loudoun | Unincorporated areas of Loudoun County (09-03-1375P) | March 10, 2010; March 17, 2010; Loudoun Times-Mirror | The Honorable Scott K. York, Chairman, Loudoun County, P.O. Box 7000, Leesburg, VA 20177 | March 22, 2010 | 510090

(Catalog of Federal Domestic Assistance No. 97.022, “Flood Insurance.”)

Dated: April 30, 2010.
Sandra K. Knight,
Deputy Federal Insurance and Mitigation Administrator, Mitigation, Department of Homeland Security, Federal Emergency Management Agency.

[FR Doc. 2010-12484 Filed 5-24-10; 8:45 am]

BILLING CODE 9110-12-P